ENVIRONMENTAL PROTECTION AGENCY

[ER-FRL-8597-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated July 17, 2009 (74 FR 34754).

Draft EISs

EIS No. 20090188, ERP No. D-AFS-K65369-AZ, Pinaleno Ecosystem Restoration Project, Proposed On-the-Ground Treatments to Improve Forest Health and Improve or Protect Red Squirrel Habitat, Coronado National Forest, Graham County, AZ.

Summary: EPA does not object to the proposed project, but did request clarification of Christmas tree removal and public firewood gathering issues. Rating LO.

EIS No. 20090227, ERP No. D-UAF-K10011-AZ, Barry M. Goldwater Ranger East Range Enhancements, Proposes to Take Ten Different Actions would Enhance Range Operations and Training, Yuma, Pima and Maricopa Counties, AZ.

Summary: EPA expressed environmental concerns about impacts to surface water and air emissions from the sand and gravel excavation of washes. Rating EC2.

EIS No. 20090235, ERP No. D-AFS-K65374-CA, Sugar Pine Adaptive Management Project, Proposal to Create a Network of Strategically Placed Landscape Area Treatments (SPLATs) and Defensible Fuels Profiles near Key Transportation Corridors to Reduce the Intensity and Spread of Wildfires across the landscape and near Communities, Madera and Mariposa Counties, CA.

Summary: EPA expressed environmental concerns about impacts to water and air quality, and requested for additional information on and commitments to mitigation measures to minimize those impacts. Rating EC2.

EIS No. 20090241, ERP No. D-IBR-H28002-KS, Aquifer Storage Recharge and Recovery Project, To Provide Municipal and Industrial (M&I) Water to City and Surrounding Region, Equus Beds Division, Wichita Project, Kansas, Harvey, Sedgwick, and Reno Counties, KS.

Summary: EPA does not object to the proposed project Rating LO.

EIS No. 20090253, ERP No. D-AFS-L65575-OR, Deadlog Vegetation Management Project, To Implement Treatments that would Reduce the Risk of High Intensity, Stand Replacement Wildlife and the Risk of Heavy Tree Mortality from Insects and Disease, Deschutes National Forest Lands, Deschutes County, OR.

Summary: EPA expressed environmental concerns about the project's potential to impact air quality. Rating EC2.

EIS No. 20090256, ERP No. D-BLM-K65378-NV, Round Mountain Expansion Project, Proposed to Construct and Operate and Expand the Existing Open-Pit Gold Mining and Processing Operations, north of the town of Tonopah in Nye County, NV.

Summary: EPA expressed environmental concerns about impacts to groundwater and surface water quality and quantity, riparian areas, and air quality, and requested additional information on these issues, additional mitigation, financial assurance for reclamation and post-closure monitoring. Rating EC2.

Final EISs

EIS No. 20090206, ERP No. F-NOA-E91026-00, Programmatic EIS—Fishery Management Plan for Regulating Offshore Marine Aquaculture in the Gulf of Mexico, To Increase the Maximum Sustainable Yield (MSY) and Optimum Yield (OY), Implementation.

Summary: EPA expressed environmental concern about the potential for excess nutrients to cause organic loading within the water column.

EIS No. 20090228, ERP No. F-CGD-E03019-FL, Port Dolphin LLC Liquefied Natural Gas Deepwater Port License Application, Proposes to Own, Construct and Operate a Deepwater Port, Outer Continental Shelf, Manatee County, FL.

Summary: EPA does not object to the proposed action.

Dated: September 22, 2009.
Robert W. Hargrove,
Director, NEPA Compliance Division, Office of Federal Activities.

[FR Doc. E9-23227 Filed 9-24-09; 8:45 am]

BILLING CODE 6560-50-P